DEPARTMENT OF TRANSPORTATION

Federal Aviation Administration

14 CFR Part 71

[Docket No. FAA-2022-0436; Airspace Docket No. 22-ASW-1]

RIN 2120-AA66

Amendment and Establishment of Air Traffic Service (ATS) Routes; South Central United States

AGENCY: Federal Aviation Administration (FAA), DOT.

ACTION: Final rule; correction.

SUMMARY: This action corrects a final rule published by the FAA in the Federal Register on October 27, 2022, that amends VHF Omnidirectional Range (VOR) Federal airways V-198, V-212, V-556, and V-558; amends Area Navigation (RNAV) route T-256; and establishes RNAV route T-466. In the new RNAV route T-466, the final rule identified the CHILD, TX, route point as a waypoint (WP) and the SEEDS, TX, route point as a Fix, in error. This action makes editorial corrections to the reference of the CHILD, TX, WP to change it to be reflected as a Fix and to the SEEDS, TX, Fix to change it to be reflected as a WP. These corrections are necessary to match the FAA National Airspace System Resource (NASR) database information.

DATES: Effective date 0901 UTC, December 29, 2022. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 65011; October 27, 2022), amending VOR Federal airways V-198, V-212, V-556, and V-558; amending RNAV route T-256; and establishing RNAV route T-466. Subsequent to publication, the FAA determined that the CHILD, TX, route point was inadvertently identified as a WP and the SEEDS, TX, route point was inadvertently identified as a Fix, in error. The correct route point references are the CHILD, TX, Fix and the SEEDS, TX, WP. This rule corrects those errors by changing the reference of the CHILD, TX, WP to the CHILD, TX, Fix; and the reference of the SEEDS, TX, Fix to the SEEDS, TX, WP.

These are editorial changes only to match the FAA NASR database information and do not alter the alignment of the affected T-466 route.

United States Area Navigation Routes are published in paragraph 6011 of FAA Order JO 7400.11G, dated August 19, 2022, and effective September 15, 2022, which is incorporated by reference in 14 CFR 71.1. The RNAV T-route listed in this document will be published subsequently in FAA Order JO 7400.11.

Correction to Final Rule

Accordingly, pursuant to the authority delegated to me, references to the CHILD, TX, WP and to the SEEDS, TX, Fix that are reflected in Docket No. FAA-2022-0436, as published in the Federal Register of October 27, 2022 (87 FR 65011), FR Doc. 2022-22164, are corrected as follows:

1. On pages 65012 and 65013, correct the table for T-466 San Angelo, TX (SJT) to Sabine Pass, TX (SBI) [New] to read:

T-466 San Angelo, TX (SJT) to Sabine Pass, TX (SBI) [New]
San Angelo, TX (SJT) | VORTAC | (Lat. 31°22′29.84″ N, long. 100°27′17.53″ W)
CHILD, TX | FIX | (Lat. 31°03′41.17″ N, long. 100°27′40.62″ W)
Junction, TX (JCT) | VORTAC | (Lat. 30°35′52.88″ N, long. 099°49′02.93″ W)
BETTI, TX | FIX | (Lat. 29°57′54.97″ N, long. 098°03′23.98″ W)
MARCS, TX | FIX | (Lat. 29°53′52.04″ N, long. 097°51′40.70″ W)
SEEDS, TX | WP | (Lat. 29°39′31.94″ N, long. 097°14′58.66″ W)
LDRET, TX | WP | (Lat. 29°39′44.93″ N, long. 096°19′00.96″ W)
KEEDS, TX | WP | (Lat. 29°21′59.49″ N, long. 095°36′48.98″ W)
Scholes, TX (VUH) | VOR/DME | (Lat. 29°16′09.60″ N, long. 094°52′03.81″ W)
Sabine Pass, TX (SBI) | VOR/DME | (Lat. 29°41′12.19″ N, long. 094°02′16.72″ W)

* * * * *

Issued in Washington, DC, on October 28, 2022.
Mark E. Gauch,
Manager, Airspace Rules and Regulations.

[FR Doc. 2022-23852 Filed 11-3-22; 8:45 am]

BILLING CODE 4910-13-P